ENVIRONMENTAL PROTECTION AGENCY

[EPA-HQ-OPPT-2015-0789; FRL-9942-66]

Chlorinated Paraffins; Request for Available Information on PMN Risk Assessments; Extension of Comment Period

AGENCY: Environmental Protection Agency (EPA).

ACTION: Notice; extension of comment period.

SUMMARY: EPA issued a notice in the Federal Register of December 23, 2015, requesting new available data on certain chlorinated paraffins in different industries and for different uses, to inform the risk assessments for chlorinated paraffins submitted as Toxic Substances Control Act (TSCA) Premanufacture Notices (PMNs). This document extends the comment period for 30 days, from February 22, 2016 to March 23, 2016.

DATES: Comments, identified by docket identification (ID) number EPA-HQ-OPPT-2015-0789, must be received on or before March 23, 2016.

ADDRESSES: Follow the detailed instructions provided under ADDRESSES in the Federal Register document of December 23, 2015 (80 FR 79886) (FRL-9940-13).

FOR FURTHER INFORMATION CONTACT: For technical information contact: Kenneth Moss, Chemical Control Division (7405M), Office of Pollution Prevention and Toxics, Environmental Protection Agency, 1200 Pennsylvania Ave. NW., Washington, DC 20460-0001; telephone number: (202) 564-9232; email address: moss.kenneth@epa.gov.

For general information contact: The TSCA-Hotline, ABVI-Goodwill, 422 South Clinton Ave., Rochester, NY 14620; telephone number: (202) 554-1404; email address: TSCA-Hotline@epa.gov.

SUPPLEMENTARY INFORMATION: This document extends the public comment period established in the Federal Register document of December 23, 2015 (80 FR 79886) (FRL-9940-13), which requested new available data on certain chlorinated paraffins in different industries and for different uses, to inform the risk assessments for chlorinated paraffins submitted as Toxic Substances Control Act (TSCA) Premanufacture Notices (PMNs). Commenters requested additional time to research and submit more detailed comments concerning this action. In order to give all interested persons the opportunity to comment fully, EPA is hereby extending the comment period, which was set to end on February 22, 2016, to March 23, 2016.

To submit comments, or access the docket, please follow the detailed instructions provided under ADDRESSES in the Federal Register document of December 23, 2015. If you have questions, consult the technical person listed under FOR FURTHER INFORMATION CONTACT.

Authority: 15 U.S.C. 2601 et seq.

Dated: February 17, 2016.
Maria J. Doa,
Director, Chemical Control Division, Office of Pollution Prevention and Toxics.

[FR Doc. 2016-03597 Filed 2-17-16; 4:15 pm]

BILLING CODE 6560-50-P